NUCLEAR REGULATORY COMMISSION

[NRC-2014-0212]

Oversight of Counterfeit, Fraudulent, and Suspect Items in the Nuclear Industry

AGENCY: Nuclear Regulatory Commission.

ACTION: Regulatory issue summary; issuance.

SUMMARY: The U.S. Nuclear Regulatory Commission (NRC) is issuing Regulatory Issue Summary (RIS) 2015-08, “Oversight of Counterfeit, Fraudulent, and Suspect Items in the Nuclear Industry.” This RIS is intended to heighten awareness of existing NRC regulations and how they apply to the nuclear industry stakeholders' oversight of counterfeit, fraudulent, and suspect items (CFSI). This RIS is addressed to all NRC's licensees and certificate holders, Agreement State radiation control program directors, and state liaison officers, as well as addressees' contractors and vendors.

DATES: The RIS is available as of July 13, 2015.

ADDRESSES: Please refer to Docket ID NRC-2014-0212 when contacting the NRC about the availability of information regarding this document. You may obtain publicly-available information related to this document using any of the following methods:

• Federal Rulemaking Web site: Go to http://www.regulations.gov and search for Docket ID NRC-2014-0212. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

• This RIS is also available on the NRC's public Web site at http://www.nrc.gov/reading-rm/doc-collections/gen-comm/reg-issues/ (select “2015” and then select “RIS 2015-08”).

FOR FURTHER INFORMATION CONTACT: James Gaslevic, Office of New Reactors, U.S. Nuclear Regulatory Commission, Washington, DC 20555-0001; telephone: 301-415-2776, email: James.Gaslevic@nrc.gov.

SUPPLEMENTARY INFORMATION: The NRC published a notice of opportunity for public comment on this RIS in the Federal Register (79 FR 59521) on October 2, 2014. The agency received comments from eight commenters. The staff considered all comments, which resulted in minor clarifications to the RIS. The evaluation of these comments and the resulting changes to the RIS are discussed in a publicly available memorandum that is in ADAMS under Accession No. ML15008A192.

Dated at Rockville, Maryland, this 7thh day of July 2015.
For the Nuclear Regulatory Commission.
Sheldon D. Stuchell,
Chief, Generic Communications Branch, Division of Policy and Rulemaking, Office of Nuclear Reactor Regulation.

[FR Doc. 2015-16954 Filed 7-10-15; 8:45 am]

BILLING CODE 7590-01-P